ENVIRONMENTAL PROTECTION AGENCY

[EPA-HQ-OW-2022-0869; FRL-10916-02-OMS]

Agency Information Collection Activities; Submission to the Office of Management and Budget for Review and Approval; Comment Request; Correction

AGENCY: Environmental Protection Agency (EPA).

ACTION: Notice, correction.

SUMMARY: The Environmental Protection Agency (EPA) published a notice in the Federal Register on April 21, 2023, requesting comments on a proposed Information Collection Request (EPA ICR Number 2723.01, OMB Control Number 2040-NEW) being submitted to the Office of Management and Budget (OMB) for review and approval in accordance with the Paperwork Reduction Act. That notice contained an error in the Agency Docket ID Number. This document corrects that error.

FOR FURTHER INFORMATION CONTACT: Dr. Phillip Flanders, Engineering and Analysis Division, Office of Science and Technology, 4303T, Environmental Protection Agency, 1200 Pennsylvania Ave. NW, Washington, DC 20460; telephone number: 202-566-8323; email address: Flanders.Phillip@epa.gov.

SUPPLEMENTARY INFORMATION:

Correction

In the Federal Register of April 21, 2023, in FR Doc. 2023-08440, on page 24615:

1. In the first column, correct the “Agency Docket Number” to read “EPA-HQ-OW-2022-0869”; and

2. In the second column, correct the ADDRESSES by correcting the “Agency Docket Number” to read “EPA-HQ-OW-2022-0869”.

Courtney Kerwin,
Director, Regulatory Support Division.

[FR Doc. 2023-11262 Filed 5-25-23; 8:45 am]

BILLING CODE 6560-50-P